DEPARTMENT OF AGRICULTURE

Animal and Plant Health Inspection Service

7 CFR Part 301

[Docket No. 99-101-2]

Pine Shoot Beetle; Addition to Quarantined Areas

AGENCY: Animal and Plant Health Inspection Service, USDA.

ACTION: Affirmation of interim rule as final rule.

SUMMARY: We are adopting as a final rule, without change, an interim rule that amended the pine shoot beetle regulations by adding 28 counties in Illinois, Indiana, Michigan, New Hampshire, New York, Pennsylvania, Vermont, West Virginia, and Wisconsin to the list of quarantined areas. As a result of that action, the interstate movement of regulated articles from those areas is restricted. The interim rule was necessary to prevent the spread of the pine shoot beetle, a pest of pine products, into noninfested areas of the United States.

EFFECTIVE DATE: The interim rule became effective on June 13, 2000.

FOR FURTHER INFORMATION CONTACT: Mr. Philip Bell, Regional Program Manager, PPQ, APHIS, 920 Main Campus Drive, Suite 200, Raleigh, NC 27606-5202, (919) 716-5582; or Mr. Jonathan M. Jones, Operations Officer, Invasive Species and Pest Management, PPQ, APHIS, 4700 River Road Unit 134, Riverdale, MD 20737-1236, (301) 734-8247.

SUPPLEMENTARY INFORMATION:

Background

In an interim rule effective June 13, 2000, and published in the Federal Register on June 19, 2000 (65 FR 37841-37842, Docket No. 99-101-1), we amended the pine shoot beetle (PSB) regulations contained in §§ 301.50 through 301.50-10 by adding 28 counties in Illinois, Indiana, Michigan, New Hampshire, New York, Pennsylvania, Vermont, West Virginia, and Wisconsin to the list of quarantined areas § 301.50-3. That action was necessary to prevent the spread of PSB into noninfested areas of the United States.

Comments on the interim rule were required to be received on or before August 18, 2000. We did not receive any comments. Therefore, for the reasons given in the interim rule, we are adopting the interim rule as a final rule.

This action also affirms the information contained in the interim rule concerning Executive Orders 12866, 12372, and 12988 and the Paperwork Reduction Act. Further, for this action, the Office of Management and Budget has waived the review process required by Executive Order 12866.

Regulatory Flexibility Act

This action affirms an interim rule that amended the PSB regulations by adding 28 counties in Illinois, Indiana, Michigan, New Hampshire, New York, Pennsylvania, Vermont, West Virginia, and Wisconsin to the list of quarantined areas. As a result of that action, the interstate movement of regulated articles from those areas is restricted. The interim rule was necessary to prevent the artificial spread of PSB to noninfested areas of the United States.

The following analysis addresses the economic effect of the interim rule on small entities, as required by the Regulatory Flexibility Act.

The interim rule affects entities engaged in the interstate movement of regulated articles from and through the 28 counties in Illinois, Indiana, Michigan, New Hampshire, New York, Pennsylvania, Vermont, West Virginia, and Wisconsin that were added to the list of quarantined areas by the interim rule. Affected entities may include nursery stock growers, Christmas tree farms, logging operations, and others who sell, process, or move regulated articles. As a result of the interim rule, any such entities moving regulated articles interstate from one of those 28 counties must first inspect and/or treat the regulated articles in order to obtain a certificate or limited permit authorizing the movement.

The Small Business Administration (SBA) has established size standards to determine whether an entity would be considered small. We have determined that there are 765 nurseries, Christmas tree farms, logging operations, and other entities who sell, process, or move regulated articles in the 28 counties added to the list of quarantined areas by the interim rule. According to SBA standards, the vast majority of the entities may be considered small.

We have determined that the nurseries, Christmas tree growers, and logging operations in most of the 28 counties that are now listed as quarantined areas will not be significantly affected by the interim rule, either because pine species comprise a very minor share of their products or because their shipments do not leave the quarantined areas.

However, some nurseries and Christmas tree growers affected by the interim rule have markets that are predominantly out-of-county and out-of-State. These affected entities can maintain their markets outside the quarantined areas by arranging for the issuance of certificates or limited permits based on inspection or treatment of the regulated articles. Inspections, in some cases, are already occurring for other purposes; therefore, inspecting for PSB will add minimal cost. Also, any person engaged in growing, handling, or moving regulated articles may enter into a compliance agreement with the Animal and Plant Health Inspection Service whereby that person, rather than an inspector, may issue a certificate or limited permit for the interstate movement of eligible regulated articles. Costs and potential inconveniences are most likely for producers of live pine nursery stock, since inspection is required for each live plant before it may move interstate from a quarantined area. However, many producers must already have their products inspected for other pests, and adding another inspection will likely be a relatively small burden.

In contrast to the losses associated with the damage caused by PSB, the potential costs and inconvenience associated with inspections and treatment are minimal. The effect on those few small entities that do move regulated articles out-of-county and interstate is minimized by the availability of treatments and compliance agreements that, in most cases, allow these small entities to move regulated articles with very little additional cost.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 65 FR 37841-37842 on June 19, 2000.

Authority: Title IV, Pub. L. 106-224, 114 Stat. 438, 7 U.S.C. 7701-7702; 7 U.S.C. 166; 7 CFR 2.22, 2.80, and 371.3.

Done in Washington, DC, this 16th day of April 2001.
Bobby R. Acord,
Acting Administrator, Animal and Plant Health Inspection Service.

[FR Doc. 01-9791 Filed 4-19-01; 8:45 am]

BILLING CODE 3410-34-P